FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Alpha-Raleigh USA, Limited Liability Company dba ARL-USA (NVO & OFF), 481 Doremus Avenue, Newark, NJ 07105. Officer: Hakeem K. Bisiolu, Member/Manager (Qualifying Individual), Application Type: New NVO & OFF License.

APECS Logistics, Inc. (NVO & OFF), 2531 Monterey Place, Fullerton, CA 92833. Officers: Jou An Kim, CFO/Secretary (Qualifying Individual), Han K. Jung, President, Application Type: New NVO & OFF License.

Cargonauts USA, Corp. (NVO & OFF), 10913 NW., 30th Street, Suite 107-C, Doral, FL 33171. Officer: Miguel O. Gonzalez, President/Secretary (Qualifying Individual), Application Type: New NVO & OFF License.

Customs and Trade Services, Inc. (OFF), 10801 NW., 97th Street, #1, Miami, FL 33178. Officers: Reinaldo Rodriquez, Executive Vice President/Sec. (Qualifying Individual), Norman E. Gelber, President/Treasurer, Application Type: QI Change.

Global Cargo Connection, Inc. (OFF), 2775 W. Okeechobee Road, LOT 146, Hialeah, FL 33010. Officers: Yusniel Rodriguez, President (Qualifying Individual), Loris Gutierrez, Vice President/Secretary, Application Type: New OFF License.

Jacobson Global Logistics, Inc. (OFF), 1930 Sixth Avenue South, #401, Seattle, WA 98134. Officers: Sarah B. Dorscht, Senior Vice President (Qualifying Individual), Brian T. Lutt, Director/President, Application Type: Name Change.

Latin Link Logistics, LLC (NVO & OFF), 10405 NW 37th Terrace, Miami, FL 33178. Officers: Beatriz E. Jaramillo, Pricing, Trade & Marketing Manager (Qualifying Individual), Shariff Gonnella, Manager, Application Type: New NVO & OFF License.

Leschaco, Inc. (NVO & OFF), 15355 Vantage Parkway West, #195, Houston, TX 77032. Officers: Mark C. Malambri, President/CEO (Qualifying Individual), Martin Pieper, Treasurer, Application Type: QI Change.

New Star Freight, Inc. dba American Freight Solutions (NVO & OFF), 7354 Country Fair Drive, Corona, CA 92880. Officers: Xiaosong M. Liu, Operation Manager (Qualifying Individual), Xin S. Li, President, Application Type: New NVO & OFF License.

Sea Crest Logistics, Inc. (NVO), 324 San Marcos Street, Suite #7, San Gabriel, CA 91776. Officer: Veronica Knycha, President/Treasurer/Secretary (Qualifying Individual), Application Type: New NVO License.

Seapack Inc. dba Excel Forwarders (NVO & OFF), 2820 NW., 105th Avenue, #B, Miami, FL 33172. Officers: Mark Kearns, President (Qualifying Individual), Roland L. Malin-Smith, Application Type: Trade Name Change.

T.V.L. Global Logistics (N.Y.) Inc. (NVO), 45-14 251st Street, Suite 105, Little Neck, NY 11362. Officers: Michael Tsui, Vice President (Qualifying Individual), Chuang-Hsing Chuch, President, Application Type: QI Change.

The Villamayor Enterprises Limited Partnership, dba Villamayor Freight Forwarder (OFF), 8002 N. Oak Trafficway, Suite 108, Kansas City, MO 64118. Officers: Arthur B. Villamayor, General Partner (Qualifying Individual), Ariel S. Villamayor, Limited Partner, Application Type: New OFF License.

UTi, United States, Inc. dba UTi (NVO & OFF), 1660 Walt Whitman Road, Melville, NY 11747. Officers: Charles N. Deller, Vice President (Qualifying Individual), Christopher Dale, Director/President/CEO, Application Type: Trade Name Change & QI Change.

WTG Logistics, Inc. dba WTG International (NVO & OFF), 140 Epping Road, Exeter, NH 03833. Officers: Alain J. Beaudoin, Vice President (Qualifying Individual), William M. Walsh, President, Application Type: QI Change.

Dated: September 9, 2011.
Karen V. Gregory,
Secretary.

[FR Doc. 2011-23573 Filed 9-13-11; 8:45 am]

BILLING CODE 6730-01-P